DEPARTMENT OF THE TREASURY

Submission for OMB Review; Comment Request

June 10, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before July 23, 2003 to be assured of consideration.

Internal Revenue Service (IRS)

OMB Number: 1545-0771.

Regulation Project Number: EE-63-88 Final and Temporary, IA-140-86 Temporary, and REG-209785-95 Final.

Type of Review: Extension.

Title: EE-63-88 Final and Temporary Regulations: Taxation of Fringe Benefits and Exclusions From Gross Income for Certain Fringe Benefits; IA-140-86 Temporary: Fringe Benefits; Listed Property; and REG-209785-95 Final: Substantiation of Business Expenses.

Description: EE-63-88: This regulation provides guidance on the tax treatment of taxable and nontaxable fringe benefits and general specific rules for the valuation of taxable fringe benefits in accordance with Code sections 61 and 132. The regulation also provides guidance on exclusions from gross income for certain fringe benefits. IA-140-86: This regulation provides guidance relating to the requirement that any deduction or credit with respect to business travel, entertainment, and gift expenses be substantiated with adequate records in accordance with Code section 274(d). This regulation also provides guidance on the taxation of fringe benefits and clarifies the types of records that are generally necessary to substantiate any deduction or credit for listed property. REG-209785-95: This regulation provides that taxpayers who deduct, or reimburse employees for, business expenses for travel, entertainment, gifts, or listed property are required to maintain certain records, including receipts, for expenses of $75 or more. The regulation amends existing regulations by raising the receipt threshold from $25 to $75.

Respondents: Business or other for-profit, Individuals or households, Not-for-profit institutions, Farms, Federal Government, State, Local or Tribal Government.

Estimated Number of Respondents/Recordkeepers: 28,582,150.

Estimated Burden Hours Per Respondent/Recordkeeper: 1 hour, 20 minutes.

Frequency of Response: On occasion.

Estimated Total Reporting/Recordkeeping Burden: 37,922,688 hours.

OMB Number: 1545-1014.

Form Number: IRS Form 1066.

Type of Review: Revision.

Title: Form 1066: U.S. Real Estate Mortgage Investment Conduit (REMIC) Income Tax Return; Schedule Q (Form 1066): Quarterly Notice to Residual Interest Holder of REMIC Taxable Income or Net Loss Allocation.

Description: Form 1066 and Schedule Q (Form 1066) are used by real estate mortgage investment conduit (REMIC) to figure its tax liability and income and other tax-related information to pass through to its residual holders. IRS uses the information to determine the correct tax liability of the REMIC and its residual holders.

Respondents: Business or other for-profit.

Estimated Number of Respondents/Recordkeepers: 4,917.

Estimated Burden Hours Per Respondent/Recordkeeper:

| Form 1066 | Schedule Q (Form 1066)
Recordkeeping | 32 hr., 3 min | 6 hr., 27 min.
Learning about the law or the form | 8 hr., 51 min | 1 hr., 40 min.
Preparing the form | 12 hr., 33 min | 1 hr., 52 min.
Copying, assembling, and sending the form to the IRS

Frequency of Response: Quarterly, Annually.

Estimated Total Reporting/Recordkeeping Burden: 758,989 hours.

OMB Number: 1545-1035.

Form Number: IRS Form 8611.

Type of Review: Revision.

Title: Recapture of Low-Income Housing Credits.

Description: Internal Revenue Code (IRC) section 42 permits owners of residential rental projects providing low-income housing to claim a credit against their income tax. If the property is disposed of or it fails to meet certain requirements over a 15-year compliance period and a bond is not posted, the owner must recapture on Form 8611 part of the credit(s) taken in prior years.

Respondents: Business or other for-profit, Individuals or households.

Estimated Number of Respondents/Recordkeepers: 1,200.

Estimated Burden Hours Per Respondent/Recordkeeper:

Recordkeeping—7 hr., 39 min.

Learning about the law or the form—1 hr., 0 min.

Preparing and sending the form to the IRS—1 hr., 10 min.

Frequency of Response: Annually.

Estimated Total Reporting/Recordkeeping Burden: 10,841 hours.

OMB Number: 1545-1480.

Regulation Project Number: REG-107047-00 Final.

Type of Review: Extension.

Title: Hedging Transactions.

Description: The information is required by the IRS to aid it in administering the law and to prevent manipulation. The information will be used to verify that a taxpayer is properly reporting its business hedging transactions.

Respondents: Business or other for-profit.

Estimated Number of Respondents/Recordkeepers: 127,100.

Estimated Burden Hours Per Respondent/Recordkeeper: 1 hour, 20 minutes.

Frequency of Response: Other (one-time).

Estimated Total Reporting/Recordkeeping Burden: 171,050 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-15744 Filed 6-20-03; 8:45 am]

BILLING CODE 4830-01-P